DEPARTMENT OF AGRICULTURE

Forest Service

Notice of Intent To Publish for Public Comment Proposed Permanent Hunting Order in the Wall Ranger District of the Buffalo Gap National Grassland

AGENCY: Forest Service, Agriculture (USDA).

ACTION: Notice.

SUMMARY: The Forest Service (Forest Service or Agency), United States Department of Agriculture, is giving notice of its intent to publish for public comment a proposed permanent order prohibiting prairie dog hunting on 106,568.5 acres of the Wall Ranger District in the Buffalo Gap National Grassland. At the end of the advance notice period, the Forest Service will seek public comments, as specified in this notice, on the proposed permanent hunting order.

DATES: Advance notice of the opportunity to provide public comment on the proposed permanent hunting order is being provided until May 26, 2023. Beginning on May 26, 2023, the Forest Service will accept comments on the proposed permanent hunting order for 60 days. The notice of opportunity for public comment will be posted on the Nebraska National Forests and Grasslands (NNFG) web page at www.fs.usda.gov/alerts/nebraska/alerts-notices.

ADDRESSES: The proposed permanent hunting order, the justification for the proposed permanent order, and map are posted on the Forest Service's Regulations and Policies web page at www.fs.usda.gov/about-agency/regulations-policies.

FOR FURTHER INFORMATION CONTACT: Julie Johndreau, Recreation Program Manager, 308-432-0330 or julie.johndreau@usda.gov. Individuals who use telecommunication devices for the deaf and hard of hearing may call the Federal Relay Service at 800-877-8339, 24 hours a day, every day of the year, including holidays.

SUPPLEMENTARY INFORMATION:

Advance Notice and Public Comment Procedures

Section 4103 of the John D. Dingell, Jr. Conservation, Management, and Recreation Act of 2019 (Pub. L. 116-9, title IV, (Sportsmen's Access and Related Access)), hereinafter “the Dingell Act,” requires the Forest Service to provide advance notice and opportunity for public comment before temporarily or permanently closing any National Forest System lands to hunting, fishing, or recreational shooting. Section 4103 applies to the proposed permanent order prohibiting prairie dog hunting on 106,568.5 acres of the Wall Ranger District in the Buffalo Gap National Grassland. This notice meets the requirement in section 4103 to publish a notice of intent in the Federal Register in advance of the public comment period.

Following the notice of intent, section 4103(b)(2) of the Dingell Act requires an opportunity for public comment on proposed temporary or permanent hunting, fishing, or recreational shooting orders. Because the proposed order would permanently prohibit prairie dog hunting on 106,568.5 acres of Wall Ranger District in the Buffalo Gap National Grassland, the public comment period must be at least 60 days. Beginning on May 26, 2023, the Forest Service will accept public comments on the proposed permanent order for 60 days. The notice of opportunity for public comment will be posted on the NNFG's web page at www.fs.usda.gov/alerts/nebraska/alerts-notices.

Section 4103(b)(2) of the Dingell Act requires the Forest Service to respond to public comments received on the proposed permanent order before issuing a final permanent order, including an explanation of how any significant issues raised by the comments were resolved and, if applicable, how resolution of those issues affected the proposed permanent order or the justification for the proposed permanent order. The final permanent order, the justification for the final permanent order, and the response to comments on the proposed permanent order will be posted on the NNFG's web page at www.fs.usda.gov/alerts/nebraska/alerts-notices.

Background and Need

The proposed permanent order would implement a requirement in the Nebraska National Forests and Grasslands (NNFG) 2001 Revised Land and Resource Management Plan (LRMP), as amended in 2005 and 2008, to prohibit prairie dog hunting on 106,568.5 acres of Management Area 3.63 in the Wall Ranger District of the Buffalo Gap National Grassland. The effects of this prohibition were analyzed in the environmental impact statements for the 2001 LRMP and its subsequent amendments. The purpose of the LRMP direction and the proposed permanent order is to maintain quality ferret habitat with a sufficient food source (prairie dogs), prevent incidental take of the endangered black-footed ferret, and protect the safety of the Agency's personnel and contractors as they study and manage the ferrets.

The proposed permanent order, the justification for the proposed permanent order, and map are posted on the Forest Service's Regulations and Policies web page at www.fs.usda.gov/about-agency/regulations-policies.

Dated: April 7, 2023.
Jacqueline Emanuel,
Associate Deputy Chief, National Forest System.

[FR Doc. 2023-10638 Filed 5-18-23; 8:45 am]

BILLING CODE 3411-15-P